DEPARTMENT OF COMMERCE

National Oceanic and Atmospheric Administration

[I.D. 030807A]

Endangered Species; File No. 1486

AGENCY: National Marine Fisheries Service (NMFS), National Oceanic and Atmospheric Administration (NOAA), Commerce.

ACTION: Notice; issuance of permit modification.

SUMMARY: Notice is hereby given that Harold M. Brundage, Environmental Research and Consulting, Inc., has been issued a modification to scientific research Permit No. 1486.

ADDRESSES: The modification and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Brandy Hutnak or Malcolm Mohead, (301)713-2289.

SUPPLEMENTARY INFORMATION: On January 16, 2007, notice was published in the Federal Register (72 FR 1707) that a modification of Permit No. 1486, issued December 22, 2004 (69 FR 30287), had been requested by the above-named individual. The requested modification has been granted under the authority of the Endangered Species Act of 1973, as amended (ESA; 16 U.S.C. 1531 et seq.) and the regulations governing the taking, importing, and exporting of endangered and threatened species (50 CFR 222-226).

The modification authorizes Mr. Brundage to take 1,000 shortnose sturgeon (Acipenser brevirostrum) early life stages (eggs and larvae) from the Delaware River System. Eggs will be collected using artificial substrates and larvae will be captured by passive ichthyoplankton nets, an epibenthic sled, and pump sampling. This research will help document spawning occurrence and location, as well as identify possible critical habitat or critical areas for shortnose sturgeon spawning and nursery.

Issuance of this modification, as required by the ESA was based on a finding that such permit (1) was applied for in good faith, (2) will not operate to the disadvantage of such endangered or threatened species, and (3) is consistent with the purposes and policies set forth in section 2 of the ESA.

Dated: March 8, 2007.
Tammy C. Adams,
Acting Chief, Permits, Conservation and Education Division, Office of Protected Resources, National Marine Fisheries Service.

[FR Doc. E7-4674 Filed 3-13-07; 8:45 am]

BILLING CODE 3510-22-S